DEPARTMENT OF TRANSPORTATION

Coast Guard

33 CFR Part 117

[CGD11-00-009]

Drawbridge Operation Regulations; Mokelumne River, CA

AGENCY: Coast Guard, DOT.

ACTION: Notice of temporary deviation from regulations.

SUMMARY: The Commander, Eleventh Coast Guard District has approved a temporary deviation to the regulations governing the opening of the Millers Ferry swing bridge, mile 12.1, over the Mokelumne River at Walnut Grove, CA. The approval specifies that the bridge need not open for vessel traffic from 8 p.m. to 6 a.m., October 9 through October 13, 2000. The purpose of this deviation is to allow Sacramento County to perform essential maintenance on the bridge.

DATES: Effective period of the deviation is 8 p.m., October 9, 2000 through 6 a.m., October 14, 2000.

FOR FURTHER INFORMATION CONTACT: Mr. David H. Sulouff, Chief, Bridge Section, Eleventh Coast Guard District, Building 50-6, Coast Guard Island, Alameda, CA 94501-5100, phone (510) 437-3516.

SUPPLEMENTARY INFORMATION: The Millers Ferry Highway Swing Bridge, mile 12.1, over the Mokelumne River at Walnut Grove, CA provides 12.8 feet vertical clearance above Mean High Water when closed. Vessels that can pass under the bridge without an opening may do so at all times. This deviation has been coordinated with commercial operators and various marinas on the waterway. No objections were received.

The normal drawbridge regulation requires the bridge to open on demand, 9 a.m. to 5 p.m., May 1 through October 31; and all other times if at least 12 hours advance notice is given.

In accordance with 33 CFR 117.35(c), this work will be performed with all due speed in order to return the bridge to normal operation as soon as possible. This deviation from the normal operating regulations in 33 CFR 117.5 is authorized in accordance with the provisions of 33 CFR 117.35.

Dated: September 29, 2000.
C.D. Wurster,
Captain, U.S. Coast Guard, Acting Commander, Eleventh Coast Guard District.

[FR Doc. 00-26077 Filed 10-10-00; 8:45 am]

BILLING CODE 4910-15-P